GENERAL SERVICES ADMINISTRATION

Notice of Availability (NOA) of the Record of Decision for the Environmental Impact Statement (EIS) for the Future Master Plan Development for the Centers for Disease Control (CDC) in Chamblee, GA; Record of Decision, Master Plan Expansion for Chamblee Campus Centers for Disease Control, Chamblee, GA

Pursuant to section 102(2)(c) of the National Environmental Policy Act (NEPA) of 1969, the Council on Environmental Quality Regulations (40 CFR parts 1500-1508), and GSA Order PBS P 1095.4E.F,2, PBS 1095.4C, ADM 1020.1, GSA has prepared an Environmental Impact Statement (EIS) for the Centers for Disease Control (CDC). The Proposed Action is the implementation of a Master Plan at the Chamblee Campus. The purpose of the EIS is to provide public notice of the Proposed Action and Alternatives, reasonable time for public comment, and to develop and implement mitigation measures based on the impacts identified.

A. Proposed Action

The Centers for Disease Control and Prevention (CDC) is an agency of the U.S. Department of Health and Human Services (HHS) with a critical mission to safeguard the health of the American public through detection, investigation, control, and prevention of communicable diseases. The Proposed Action is the implementation by the CDC of a Master Plan to expand and upgrade facilities at the Chamblee Campus. The Chamblee Campus currently consists primarily of buildings constructed between 1940 and 1993, many of which no longer satisfy the essential technical needs of CDC programs. Chamblee is one of two primary CDC campuses in the Atlanta Metro Area; the other is the main Roybal Campus and CDC Headquarters at Clifton Road. The Proposed Action would also consolidate leased facilities onto the Chamblee Campus and would accommodate the projected CDC growth at the Chamblee Campus to the year 2010 and beyond.

The Chamblee Campus is home to the National Center for Environmental Health (NCEH) and the Division of Parasitic Diseases (DPD). The Current laboratories at Chamblee Campus operate at a maximum bio-safety level (BSL) of 2 on a bio-safety scale of 1 (lowest) to 4 (highest). Practices, equipment, and facilities at BSL 2 are applicable to clinical, diagnostic, teaching and other facilities in which work is done with moderate-risk agents. The CDC anticipates an increase in personnel at the Chamblee Campus from a current staff of approximately 700 employees to approximately 4,000 in ten years. To accommodate this growth, the Master Plan provides for demolition of 17 outdated buildings, the construction of four new buildings, as well as the renovation of several other buildings on the existing 48.5-acre property. The Master Plan incorporates CDC's current inventory of 245,500 net usable square feet (NUSF) of office and laboratory space. This includes two buildings (#103 and #109) that are currently under construction to replace space from buildings recently demolished. The Master Plan would meet a cumulative need for 706,200 NUSF of space. Additional parking would be required to increase capacity from the current total of 591 spaces to 3,390 spaces at completion of full build-out. Design and construction of specific buildings, associated parking, and support facilities would be based on year-by-year Federal appropriations to fund individual projects. The General Services Administration (GSA) has prepared the EIS for the CDC and is serving as the lead agency for the NEPA process. However, the CDC will be responsible for implementing all aspects of the Proposed Action including, planning, designing, contracting, construction management, physical security, and operations and maintenance for new facilities.

B. Purpose and Need

The purpose of the Proposed Action is to enable the CDC to perform its public health and safety missions effectively and to better utilize Federal property and assets. The need for the Proposed Action is dictated in part by national security due to the importance of the CDC missions. The Proposed Action is needed to: Facilitate the performance of CDC's National missions. Alleviate overcrowded and substandard space and conditions at the Chamblee Campus, Consolidate CDC Chamblee programs that are currently performed at leased facilities. Accommodate projected growth in CDC programs associated with expanding missions. Provide campus environment that meets building codes and security requirements. Improve internal pedestrian and traffic flow.

C. Alternatives Considered

No-Action Alternative

The No-Action Alternative would maintain the status quo at the Chamblee Campus, perpetuating the use of overcrowded substandard buildings and continued reliance on off-campus leased space to support programs. Under this alternative, construction, renovation, traffic improvements, and other components of the Proposed Action, would not be implemented. The impacts of the No-Action Alternative on the natural and human environment were evaluated based on extrapolations of current traffic, building density, and other conditions for the same 10-year planning period as used to evaluate the Proposed Action.

Chamblee Campus Master Plan Implementation Alternative

Under the Master Plan Implementation Alternative, which is the Government's preferred alternative, CDC would construct eight new buildings, including parking decks and a central utility plant, on the Chamblee Campus and demolish 17 existing obsolete buildings over a 10-year planning period. These activities would be restricted to the existing disturbed areas of the campus comprising 26 acres, except for approximately two acres of upland vegetated area in the southwestern portion of the property and a strip of upland fringe on the eastern side of the developed area. The balance of approximately 20 acres, including 11.4 acres of floodplains and 4.6 acres of jurisdictional wetlands, is currently vegetated and would remain undisturbed during implementation of the Master Plan. Any future activity that would disturb this 20-acre area would require additional NEPA compliance as outlined the EIS.

Evaluation Approach and Future Tiering

The Chamblee Campus Master Plan is intended as a steering document rather than a detailed blueprint. The phasing of actions proposed in the plan must remain flexible due to uncertainties regarding the availability and timing of Federal funds. Therefore, the approach taken in this EIS for the evaluation of the Master Plan Implementation Alternative assumes that the exact locations and configurations of facilities, and activities supported, will be determined after the completion of this EIS. In the event that specific future actions are beyond the information outlined in the Master Plan and the assumptions followed for this EIS, subsequent NEPA documentation will be required consistent with the tiering process outlined in the CEQ regulations (40 CFR 1502.20). Such documentation may consist of Categorical Exclusions (at a minimum), site-specific Environmental Assessments (more likely), or an addendum/amendment to this EIS if appropriate. Chapter II provides specific examples of future actions that would be subject to tiering review.

D. Environmental Consequences to Affected Environment

The environmental consequences of implementing this Proposed Action and mitigation measures identified are summarized below.

Aesthetics

Due to the age and condition of various buildings and structures on site, continuing deterioration of these facilities will occur with the No-Action Alternative and there will be no adverse aesthetic impacts. The Master Plan Alternative would improve the aesthetic quality of the campus by eliminating overcrowded and deteriorating facilities, improving pedestrian and vehicle circulation, and upgrading landscaped areas. Short-termed adverse impacts during construction would be restricted to previously disturbed areas of the campus.

Geophysical Resources

The No-Action Alternative would not affect geologic features or soil conditions on the campus. Demolition and construction activities for the Master Plan Alternative would not significantly affect geologic features or soils on the property. Construction would be limited generally to the previously disturbed areas of the campus, which are underlain by Urban Land soils that have been altered during prior development. Construction for the Master Plan Alternative will include us of best management practices (BMPs) that generally comply with the Soil Erosion and Sedimentation Control Ordinance of the City of Chamblee (Municipal Code, Part II, Chapter 34, Article IV) and the DeKalb County Code (Chapter 14, Article II, Section 14-38), to reduce soil erosion and sedimentation impacts.

Surface Water Resources

The No-Action Alternative would not alter surface waters, drainage, floodplains, or wetlands on the campus, because there would be no change in existing structures and uses on site. With appropriate uses of BMPs during construction, compliance with the General Storm Water Permit requirements, and implementation of the SWMP, the Master Plan Alternative would be in compliance with state and local regulations and would provide a net benefit over existing water resource conditions.

Biological Resources

There are no critical species or habitats on the Chamblee Campus for any Federally or state-protected rare, threatened or endangered species listed under the Endangered Species Act (1973). The No-Action Alternative would not affect flora and fauna on the campus. The Master Plan Alternative would not have adverse impacts on wildlife or plant species. No Federally or state-protected rate, threatened, or endangered species listed under the Endangered Species Act (1973) will be impacted.

Cultural Resources

Based on consultation with the Georgia State Historic Preservation Officer (SHPO) as documented in Chapter VIII, no archeological resources have been identified on the campus, and none of the structures designated for future demolition are eligible for the National Register of Historic Places (NRHP). Therefore, the Proposed Action would have no impact on cultural resources.

Demographics and Socioeconomic

Under the No-Action Alternative, future operations at the Chamblee Campus would have no effect on population, housing, economic activity, or employment in the city and county. The Master Plan Alternative would not adversely affect population growth in DeKalb county either directly or indirectly. The exposure of local businesses on Buford Highway and the International Village to increasing numbers of employees at the nearby Chamblee Campus may have a favorable impact on local services and retail commerce. The potential increase in trade opportunities for local businesses may have a small impact on the demand for local housing. The increase in jobs at the campus would provide a net favorable effect on employment for the City of Chamblee but have no impact on countywide employment, because relocations by significant numbers of existing CDC employees would not be expected. Nearby leased space to be vacated by CDC in conjunction with the Master Plan would be absorbed by the regional commercial real estate market without measurable effect over the 10-year planning period.

Environmental Justice (EJ)

Under the No-Action Alternative, existing operations would continue at Chamblee Campus and at offsite, leased facilities without environmental Justice consequences. However, because there would be no change in the number of employees on site, there would be no potential for local economic stimulus from CDC actions. The Master Plan Alternative would not adversely and disproportionately affect minority and low-income groups who live near the Chamblee Campus. As indicated in Chapter 4, the distributions of minorities and low-income groups in the immediate vicinity of the campus are not substantially greater than in the broader local community. Also, the campus would perform essentially the same programs it currently performs without any change in bio-safety level (currently BSL 2) for laboratories onsite. All Master Plan activities would occur on existing Federal property; hence, the Federal government would not purchase any additional land for the Proposed Action, and there would be no impact on the tax base. The improvements would add over 3,000 more employees to the Chamblee Campus, which would add to the local employment base. Through potential increased patronage by greater numbers of employees on the campus, the Master Plan Alternative may also benefit nearby businesses, such as restaurants, shops, and service establishments that employ higher proportions of minorities and the economically disadvantaged. In this way, the Master Plan Alternative—would potentially support the economic development plans of the City of Chamblee and DeKalb County for the nearby DeKalb International Corridor.

Community Services

After the events of September 11, 2001, CDC assessed security at the Chamblee Campus to insure the appropriate level of protection for facilities, staff, and the surrounding community. CDC has also improved the coordination of emergency response activities with the DeKalb Homeland Security Office and the Governors Office for Homeland Security. Under the No-Action Alternative, future operations at the Chamblee Campus would not affect responsibilities of the Chamblee Police Department, the DeKalb Fire Services Bureau, regional medical facilities, the DeKalb County Public School System, or park authorities in the city and county. However, the No-Action Alternative also would not resolve potential existing deficiencies in water distribution on campus to provide adequate fire response, as indicated by CDC's engineering consultant. The increase in facilities and staff operations at the Chamblee Campus envisioned in the Master Plan Alternative will emphasize the needs for security and emergency coordination by CDC. The size of the campus and extent of developed area will remain unchanged within the existing perimeter. Therefore, the Master Plan alternative would not have adverse impacts on the operations and responsibilities of the Chamblee Police Department, DeKalb Fire Services Bureau, and regional medical facilities. Also, because the Proposed Action would not influence population growth in DeKalb County, the Master Plan Altnerative would not affect service providers, the school system, or recreational resources adversely.

Land Use and Planning

The No-Action Alternative would not affect local land use. Because the Master Plan Alternative would affect future development only of the existing property and would not require additional property acquisition, it would have no impact on local zoning or land use plans. GSA and CDC have consulted with planning authorities of both the City of Chamblee and DeKalb County regarding this Proposed Action, and the current land use on the Chamblee Campus is consistent with the classification for the site in the DeKalb County Comprehensive Plan. The proposed development under the Master Plan Alternative would also be compatible with adjacent land uses, zoning districts, and future plans of the City of Chamblee and DeKalb County.

Transportation

Prior traffic studies as summarized in Chapter IV and discussed in Appendix A have indicated that the levels of service at intersections in the vicinity of Chamblee Campus would remain unchanged over the 10-year planning period without the Proposed Action except at the intersection of Buford Highway and Chamblee-Tucker Road. The level of service at that intersection was projected to deteriorate by one category. The No-Action Alternative would not affect other means of transportation in the area; however, it also would not address existing pedestrian safety issues on Buford Highway adjacent to the campus. For the Master Plan Alternative, the traffic evaluations of this EIS in association with the prior traffic studies in the vicinity of the campus have indicated a potential for significant adverse impacts on levels of service at nearby intersections. Therefore, an updated traffic study should be performed after the two replacement buildings currently under construction (#103 and #109) are completed and occupied. The Master Plan Alternative would improve pedestrian safety on campus by separating vehicle and pedestrian routes. Also, to help mitigate problems associated with existing pedestrian traffic adjacent to the campus, consideration of a sidewalk along the entire CDC frontage on Buford Highway has been requested by the county. Additionally, the Master Plan alternative would increase the use of Marta by CDC Chamblee Campus employees due to the proximity of the Campus to the Chamblee Marta Station. This would reduce the total number of vehicle trips and be a positive impact that would result from the Master Plan alternative.

Utilities and Services

The Chamblee Campus is located within established grids of typical urban infrastructure, and all required utilities are available. Existing suppliers are meeting all current demands for utilities. Under the No-Action Alternative, future operations at the Chamblee Campus would not affect current utilities consumption rates or infrastructure capacities.

However, based on a review of the water distribution system map for the Chamblee Campus, the CDC's engineering consultant recommended the testing of fire hydrants, because the campus may not have adequate service for fire protection. The No-Action Alternative would not address this issue. For the Master Plan Alternative, CDC's design consultant would develop the projected demands on all utilities as part of the project development design phase. Because of the long lead time (10-year planning period), it is expected that all local utilities suppliers would be capable of adjusting system capacities to satisfy the demands of the facilities included in the alternative upon completion. Because all suppliers are expected to have adequate capacity to serve the future demands resulting from the Master Plan Alternative, there would not be any significant adverse impacts on utilities. By correcting potential deficiencies in the water distribution system and other utilities on campus, the Master Plan Alternative would have a net beneficial impact on these services.

Air Quality

Air emissions at the Chamblee Campus are currently covered under a Title V permit. For the No-Action Alternative, there would be no changes in emissions that would affect the existing permit. For the Master Plan Alternative, construction equipment would generate emissions of CO, NO2, various hydrocarbons, PM-10, and small amounts of SO2; however, the impact of these additional emissions would be highly localized and limited to periods of construction. Short-term impacts would be minimal, and no long-term impacts would occur as a result of construction activities. After completion of Master Plan elements, site-generated traffic would increase and result in additional congestion on area streets. The associated pollutant emissions would have minor adverse impacts on air quality. However, the increases in air pollutant emissions would be minimal on a regional basis and would not be expected to cause any violations of NAAQS. In addition, as each development activity within the Master Plan Alternative is funded; the Title V permit is reviewed and updated.

Noise

For the Master Plan Alternative, noise levels in the nearby residential areas from construction activity on campus would fall within background sound levels and be masked by the intervening traffic noise. Potential short-term noise impacts will be reduced by maintaining construction equipment in good working condition with standard muffling apparatus installed, by limiting demolition and construction activities to daytime hours, and by complying with the noise restrictions of the Chamblee Code of Ordinances. Increased traffic noise after full Master Plan build-out would not have a significant impact on surrounding communities.

Rationale for Decision:

1. As part of environmental review completed for CDC, GSA conducted Public Scoping Meetings and consultations with the local community to identify potential impacts and concerns that would result form proceeding with the proposed CDC Master Plan Alternative.

2. The community, through two Public Meetings and correspondence and consultation, identified no issues.

3. GSA consulted with other government agencies including local, State, and Federal Agencies, to solicit their input on the proposed Master Plan Alternative. All issues identified and responses provided are presented in the Draft and Final EIS documents.

4. GSA consulted with the State Historic Preservation Officer and received reconfirmation the proposed action would have no effect on historic properties.

5. Potential impacts that were identified during the NEPA process will be mitigated with additional NEPA documentation if necessary as individual projects are funded. CDC will institute the mitigation measures identified in the EIS and will consult with the appropriate groups and agencies at the appropriate time to insure that the identified mitigation measures are implemented.

6. Should potentially significant impacts be later identified in the future development of the Master Plan, CDC will conduct additional NEPA documentation before proceeding with the implementation of the Master Plan. In this event, CDC will supplement this EIS with additional documentation identifying the mitigation measures as required by the National Environmental Policy Act.

Therefore, having given consideration to all of the factors discovered during the 16-month environmental review process, the NEPA process is completed with the execution of this document for the CDC Proposed Action is the implementation of the Master Plan Alternative at the CDC Campus in Chamblee, Georgia, and is outlined in the Final Environmental Impact Statement Dated July 6, 2002, and this Record of Decision.

Dated: February 20, 2003.
Philip B. Youngberg,
Environmental Manager, Southeast Sunbelt Region, General Services Administration.

[FR Doc. 03-4945 Filed 3-3-03; 8:45 am]

BILLING CODE 6820-23-M